DEPARTMENT OF LABOR

Occupational Safety and Health Administration

[Docket No. ICR-1218-0099(2004)]

Respiratory Protection Standard; Extension of the Office of Management and Budget's (OMB) Approval of Information Collection (Paperwork) Requirements

AGENCY: Occupational Safety and Health Administration (OSHA), Labor.

ACTION: Request for public comment.

SUMMARY: OSHA solicits comments concerning its request for an extension of the information collection requirements contained in the Respiratory Protection Standard (29 CFR 1910.134).

DATES: Comments must be submitted by the following dates:

Hard Copy: Your comments must be submitted (postmarked or received) by October 29, 2004.

Facsimile and electronic transmission: Your comments must be received by October 29, 2004.

ADDRESSES: You may submit comments, identified by OSHA Docket No. ICR-1218-0099(2004), by any of the following methods:

Regular mail, express delivery, hand-delivery, and messenger service: Submit your comments and attachments to the OSHA Docket Office, Room N-2625, U.S. Department of Labor, 200 Constitution Avenue, NW., Washington, DC 20210; telephone (202) 693-2350 (OSHA's TTY number is (877) 889-5627). The OSHA Docket Office and Department of Labor hours of operation are 8:15 a.m. to 4:45 p.m. e.s.t.

Facsimile: If your comments, including any attachments are 10 pages or fewer, you may fax them to the OSHA Docket Office at (202) 693-1648.

Electronic: You may submit comments through the Internet at http://ecomments.osha.gov/. Follow instructions on the OSHA Webpage for submitting comments.

Docket: For access to the docket to read or download comments or background materials, such as the complete Information Collection Request (ICR) (containing the Supporting Statement, OMB-83-I Form, and attachments), go to OSHA's Web page at http://OSHA.gov. Comments, submissions, and the ICR are available for inspection and copying at the OSHA Docket Office at the address above. You also may contact Todd Owen at the address below to obtain a copy of the ICR.

(For additional information on submitting comments, please see the “Public Participation” heading in the SUPPLEMENTARY INFORMATION section of this document.)

FOR FURTHER INFORMATION CONTACT: Todd Owen, Directorate of Standards and Guidance, OSHA, Room N-3609, U.S. Department of Labor, 200 Constitution Avenue, NW., Washington, DC 20210; telephone (202) 693-2222.

SUPPLEMENTARY INFORMATION:

I. Submission of Comments on This Notice and Internet Access to Comments and Submissions

You may submit comments and supporting materials in response to this document by (1) hard copy; (2) FAX transmission (facsimile); or (3) electronically through the OSHA Webpage.

Because of security-related problems, there may be a significant delay in the receipt of comments by regular mail. Please contact the OSHA Docket Office at (202) 693-2350 (TTY (877) 889-5627) for information about security procedures concerning the delivery of materials by express delivery, hand delivery, and messenger service.

All comments, submissions, and background documents are available for inspection and copying at the OSHA Docket Office at the above address. Comments and submissions posted on OSHA's Webpage are available at http://www.OSHA.gov. Contact the OSHA Docket Office for information about materials not available through the OSHA Webpage and for assistance using the Webpage to locate docket submissions.

Electronic copies of this Federal Register notice, as well as other relevant documents, are available on OSHA's Webpage.

II. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

The Respiratory Protection Standard (§ 1910.134; hereafter, “Standard”) information collection requirements require employers to: develop a written respirator program; conduct employee medical evaluations and provide follow-up medical evaluations to determine the employee's ability to use a respirator; provide the physician or other licensed health care professional with information about the employee's respirator and the conditions under which the employee will use the respirator; and administrater fit tests for employees who will use negative- or positive-pressure, tight-fitting facepieces. In addition, employers must ensure that employees store emergency-use respirators in compartments clearly marked as containing emergency-use respirators. For respirators maintained for emergency use, employers must label or tag the respirator with a certificate stating the date of inspection, the name of the individual who made the inspection, the findings of the inspection, required remedial action, and the identity of the respirator.

The Standard also requires employers to ensure that cylinders used to supply breathing air to respirators have a certificate of analysis from the supplier stating that the breathing air meets the requirements for Type 1—Grade D breathing air; such certification assures employers that the purchased breathing air is safe. Compressors used to supply breathing air to respirators must have a tag containing the most recent change date and the signature of the individual authorized by the employer to perform the change. Employers must maintain this tag at the compressor. These tags provide assurance that the compressors are functioning properly.

III. Special Issues for Comment

OSHA has a particular interest in comments on the following issues:

• Whether the information-collection requirements are necessary for the proper performance of the Agency's functions, including whether the information is useful;

• The accuracy of the Agency's estimate of the burden (time and costs) of the information collection requirements, including the validity of the methodology and assumptions used;

• The quality, utility, and clarity of the information collected; and

• Ways to minimize the burden on employers who must comply; for example, by using automated or other technological information collection and -transmission techniques.

IV. Proposed Actions

OSHA is proposing to extend the information collection requirements contained in the Respiratory Protection Standard (29 CFR 1910.134). The Agency will summarize the comments submitted in response to this notice, and will include this summary in the request to OMB to extend the approval of the information collection requirements contained in the Standard.

Type of Review: Extension of currently approved information collection requirements.

Title: Respiratory Protection (29 CFR 1910.134).

OMB Number: 1218-0099.

Affected Public: Business or other for-profit; not-for-profit institutions; Federal governments; State, local, or tribal governments.

Number of Respondents: 619,430.

Frequency of Response: Annually; monthly; on occasion.

Total Responses: 19,136,576.

Average Time per Response: Time per response varies from 5 minutes (.08 hours) to mark a storage compartment or protective cover to 8 hours for large employers to gather and prepare information to develop a written program.

Estimated Total Burden Hours: 6,334,640.

Estimated Cost (Operation and Maintenance): $97,720,304.

V. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on August 24, 2004.
John L. Henshaw,
Assistant Secretary of Labor.

[FR Doc. 04-19748 Filed 8-27-04; 8:45 am]

BILLING CODE 4510-26-M